DEPARTMENT OF ENERGY

Federal Energy Regulatory Commission

Combined Notice of Filings #1

Take notice that the Commission received the following electric corporate filings:

Docket Numbers: EC21-120-000.

Applicants: Highest Power Solar, LLC, PGR 2021 Lessee 7, LLC.

Description: Application for Authorization Under Section 203 of the Federal Power Act of Highest Power Solar, LLC, et al.

Filed Date: 8/26/21.

Accession Number: 20210826-5136.

Comment Date: 5 pm ET 9/16/21.

Take notice that the Commission received the following electric rate filings:

Docket Numbers: ER20-1713-001.

Applicants: Evergy Kansas Central, Inc.

Description: Compliance filing: Order No. 864 Compliance Deficiency Response to be effective N/A.

Filed Date: 8/27/21.

Accession Number: 20210827-5122.

Comment Date: 5 pm ET 9/17/21.

Docket Numbers: ER20-2040-002.

Applicants: Southwest Power Pool, Inc.

Description: Compliance filing: Deficiency Response in ER20-2040—Prairie Wind Order No. 864 Compliance Filing to be effective N/A.

Filed Date: 8/27/21.

Accession Number: 20210827-5085.

Comment Date: 5 pm ET 9/17/21.

Docket Numbers: ER20-2041-002.

Applicants: Southwest Power Pool, Inc.

Description: Compliance filing: Deficiency Response in ER20-2041—KCPL Order No. 864 Compliance Filing to be effective N/A.

Filed Date: 8/27/21.

Accession Number: 20210827-5084.

Comment Date: 5 pm ET 9/17/21.

Docket Numbers: ER20-2042-002.

Applicants: Southwest Power Pool, Inc.

Description: Compliance filing: Deficiency Response in ER20-2042—KCPL-GMO Order No. 864 Compliance Filing to be effective N/A.

Filed Date: 8/27/21.

Accession Number: 20210827-5082.

Comment Date: 5 pm ET 9/17/21.

Docket Numbers: ER20-2044-002.

Applicants: Southwest Power Pool, Inc.

Description: Compliance filing: Deficiency Response in ER20-2044—Westar Energy, Order No. 864 Compliance Filing to be effective N/A.

Filed Date: 8/27/21.

Accession Number: 20210827-5079.

Comment Date: 5 pm ET 9/17/21.

Docket Numbers: ER20-2044-003.

Applicants: Southwest Power Pool, Inc.

Description: Compliance filing: Supp. Deficiency Response in ER20-2044—Westar Energy, Order 864 Compliance to be effective N/A.

Filed Date: 8/27/21.

Accession Number: 20210827-5162.

Comment Date: 5 pm ET 9/17/21.

Docket Numbers: ER20-2614-001.

Applicants: New England Power Company.

Description: Compliance filing: Amended Order No. 864 Compliance Filing—New England Power AC Support Agreement to be effective 1/27/2020.

Filed Date: 8/27/21.

Accession Number: 20210827-5074.

Comment Date: 5 pm ET 9/17/21.

Docket Numbers: ER21-1223-001.

Applicants: Tucson Electric Power Company.

Description: Compliance filing: Order No. 864 Compliance Filing to be effective 1/27/2020.

Filed Date: 8/27/21.

Accession Number: 20210827-5131.

Comment Date: 5 pm ET 9/17/21.

Docket Numbers: ER21-1510-002.

Applicants: Midcontinent Independent System Operator, Inc., Big Rivers Electric Corporation.

Description: Compliance filing: Midcontinent Independent System Operator, Inc. submits tariff filing per 35: 2021-08-27_BREC Compliance Filing re Attachment A to be effective 6/1/2021.

Filed Date: 8/27/21.

Accession Number: 20210827-5156.

Comment Date: 5 pm ET 9/17/21.

Docket Numbers: ER21-2217-001.

Applicants: Lincoln Land Wind, LLC.

Description: Tariff Amendment: Amendment to Application For Market Based Rate Authority to be effective 8/31/2021.

Filed Date: 8/27/21.

Accession Number: 20210827-5000.

Comment Date: 5 pm ET 9/17/21.

Docket Numbers: ER21-2473-001.

Applicants: Liberty Utilities (Granite State Electric) Corp.

Description: Tariff Amendment: Revised Filing of Rate Updates Under Borderline Sales Tariff to be effective 7/1/2021.

Filed Date: 8/27/21.

Accession Number: 20210827-5052.

Comment Date: 5 pm ET 9/17/21.

Docket Numbers: ER21-2778-000.

Applicants: UGI Corporation.

Description: Request for Waiver of Affiliate Transaction Pricing Rule of UGI Corporation.

Filed Date: 8/26/21.

Accession Number: 20210826-5101.

Comment Date: 5 pm ET 9/16/21.

Docket Numbers: ER21-2779-000.

Applicants: California Independent System Operator Corporation.

Description: § 205(d) Rate Filing: 2021-08-26 ESDER 4—State-of-Charge, Default Energy Bids & Demand Response to be effective 12/31/9998.

Filed Date: 8/27/21.

Accession Number: 20210827-5077.

Comment Date: 5 pm ET 9/17/21.

Docket Numbers: ER21-2780-000.

Applicants: Midcontinent Independent System Operator, Inc., ITC Midwest LLC.

Description: § 205(d) Rate Filing: Midcontinent Independent System Operator, Inc. submits tariff filing per 35.13(a)(2)(iii: 2021-08-27_SA 3697 ITC Midwest-Great Pathfinder Wind E&P (J1050) to be effective 7/30/2021.

Filed Date: 8/27/21.

Accession Number: 20210827-5119.

Comment Date: 5 pm ET 9/17/21.

Docket Numbers: ER21-2781-000.

Applicants: Public Service Company of Colorado.

Description: § 205(d) Rate Filing: 2021-08-27 OATT-Savion-Surplus LGIA-584-0.0.0 to be effective 8/28/2021.

Filed Date: 8/27/21.

Accession Number: 20210827-5130.

Comment Date: 5 pm ET 9/17/21.

Docket Numbers: ER21-2782-000.

Applicants: Sagebrush ESS, LLC.

Description: Baseline eTariff Filing: Market-Based Rate Application to be effective 10/27/2021.

Filed Date: 8/27/21.

Accession Number: 20210827-5152.

Comment Date: 5 pm ET 9/17/21.

Docket Numbers: ER21-2783-000.

Applicants: Portland General Electric Company.

Description: § 205(d) Rate Filing: PGE-BPA Amended and Restated Engineering and Procurement Agreement to be effective 8/28/2021.

Filed Date: 8/27/21.

Accession Number: 20210827-5155.

Comment Date: 5 pm ET 9/17/21.

Docket Numbers: ER21-2784-000.

Applicants: Basin Electric Power Cooperative.

Description: Initial rate filing: Submission of Service Agreement Nos. 106 and 107 to be effective 8/27/2021.

Filed Date: 8/27/21.

Accession Number: 20210827-5161.

Comment Date: 5 pm ET 9/17/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2021.
Debbie-Anne A. Reese,
Deputy Secretary.

[FR Doc. 2021-18999 Filed 9-1-21; 8:45 am]

BILLING CODE 6717-01-P